DEPARTMENT OF COMMERCE

International Trade Administration

[A-588-835]

Oil Country Tubular Goods (OCTG) From Japan: Rescission of Antidumping Duty Administrative Review

AGENCY: Import Administration, International Trade Administration, U.S. Department of Commerce.

SUMMARY: In response to a request from petitioner, the Department of Commerce (the Department) initiated an administrative review of the antidumping duty order on oil country tubular goods (OCTG) from Japan. See Initiation of Antidumping and Countervailing Duty Administrative Reviews and Requests for Revocation in Part, 66 FR 49924 (October 1, 2001). This review covers four manufacturers/exporters of OCTG for the period from August 1, 2000 through July 31, 2001. Because the petitioner has withdrawn its request for review, the Department is rescinding its review of OCTG from Japan, in accordance with 19 CFR 351.213(d)(1).

EFFECTIVE DATE: May 10, 2002.

FOR FURTHER INFORMATION CONTACT: Doug Campau or Maureen Flannery, AD/CVD Enforcement Group III, Office 7, Import Administration, International Trade Administration, U.S. Department of Commerce, 14th Street and Constitution Avenue, N.W., Washington D.C. 20230; telephone (202) 482-1395 or (202) 482-3020, respectively.

Applicable Statute and Regulations

Unless otherwise indicated, all citations are references to the provisions of the Tariff Act of 1930, as amended (the Act). In addition, unless otherwise indicated, all citations to the Department's regulations are to the provisions codified at 19 CFR Part 351 (2001).

SUPPLEMENTARY INFORMATION:

Background

The Department published in the Federal Register the antidumping duty order on OCTG from Japan on August 11, 1995. See Antidumping Duty Order: Oil Country Tubular Goods From Japan, 60 FR 41058 (August 11, 1995). The Department received a timely request from petitioner, United States Steel LLC, to conduct an administrative review pursuant to section 351.213(b) of the Department's regulations. On September 24, 2001, the Department initiated an administrative review covering four manufacturers/exporters of OCTG: Kawasaki Steel Corporation, Nippon Steel Corporation, NKK Steel Corporation/NKK Tubes, and Sumitomo Metal Industries, Ltd. See Initiation of Antidumping and Countervailing Duty Administrative Reviews, 66 FR 49924 (October 1, 2001). On April 5, 2002, petitioner withdrew its request for administrative review with respect to all four respondents named in the initiation.

Rescission of Antidumping Administrative Review

Pursuant to our regulations, the Department will rescind an administrative review “if a party that requested the review withdraws the request within 90 days of the date of publication of notice of initiation of the requested review.” See 19 CFR 351.213(d)(1). This section further provides that the Secretary may extend this time limit if the Secretary decides that it is reasonable to do so. See 19 CFR 351.213(d)(1). In this case, the interested party's withdrawal of its requests for review was not within the 90-day time limit. However, because there were no objections from other interested parties and no other parties had requested a review, the Department is rescinding the administrative review of OCTG from Japan for the period August 1, 2000, through July 31, 2001. See Memorandum for the File through Barbara Tillman, Director, Office of AD/CVD Enforcement VII, from Doug Campau, Analyst: Oil Country Tubular Goods From Japan: Intent to Rescind Administrative Review for the Period of 8/1/00 to 7/31/01, dated April 22, 2002.¹ The Department will issue appropriate assessment instructions to the U.S. Customs Service (Customs).

¹ On April 23, 2002, we faxed this memorandum to all interested parties, and informed them of our intent to rescind this review in the very near future. See Memorandum for the File from Christian Hughes, Analyst: Oil Country Tubular Goods From Japan: Notification to Interested Parties of Intent to Rescind, dated April 23, 2002.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This determination and notice are issued and published in accordance with 19 CFR 351.213(d)(4) and sections 751(a)(1) and 777(i)(1) of the Act.

Dated: May 3, 2002
Joseph A. Spetrini,
Deputy Assistant Secretary for Import Administration, Group III.

[FR Doc. 02-11769 Filed 5-9-02; 8:45 am]

BILLING CODE 3510-DS-S